DEPARTMENT OF COMMERCE

National Oceanic and Atmospheric Administration

[Docket Number: 170111066-7066-01]

RIN 0648-XF167

Notice of Availability of and Request for Public Comment on White Paper on Improving the Space Weather Forecasting Research to Operations (R2O)—Operations to Research (O2R) Capability

AGENCY: National Weather Service, National Oceanic and Atmospheric Administration, U.S. Department of Commerce.

ACTION: Notice of Availability of White Paper on Improving the Space Weather Forecasting Research to Operations (R2O)—Operations to Research (O2R) Capability and request for public comment.

SUMMARY: The National Weather Service on behalf of the National Science and Technology Council; Committee on Environment, Natural Resources, and Sustainability; Space Weather Operations, Research, and Mitigation Subcommittee announces the availability of and requests public comments on the draft white paper on Improving the Space Weather Forecasting Research to Operations (R2O)—Operations to Research (O2R) Capability (Draft R2O-O2R white paper).

DATES: Comments must be received by March 20, 2017 to be considered.

ADDRESSES: You may submit comments by any of the following methods:

• Email: swxo2rplan@noaa.gov. Include [Improving Space Weather Forecasting R2O-O2R] in the subject line of the message.

• Fax: (301) 713-7144, Attn: Michael Bonadonna.

• Mail: Attn: Michael Bonadonna, Office of the Federal Coordinator for Meteorology, 1325 East-West Highway (SSMC2), Suite 7130, Silver Spring, MD 20910.

Instructions: The Draft R2O-O2R white paper is available for public comment at http://www.ofcm.gov/publications/spacewx/DRAFT_O2R_plan.pdf. Responses exceeding 2000 words will not be considered; please reference page and line numbers of the Draft R2O-O2R white paper in your response, as appropriate. Please be aware that your comments may be posted online. The NOAA National Weather Service therefore requests that no business proprietary information, copyrighted information, confidential, or personally identifiable information be submitted in response to this request. Please note that the U.S. Government will not pay for response preparation or for the use of any information contained in the response.

FOR FURTHER INFORMATION CONTACT: For more information on the Draft R2O-O2R white paper, contact Michael Bonadonna, (301) 628-0058, michael.bonadonna@noaa.gov, Office of the Federal Coordinator for Meteorology.

SUPPLEMENTARY INFORMATION: Space weather refers to the dynamic conditions of the space environment that arise from interactions with emissions from the sun, including solar flares, solar energetic particles, and coronal mass ejections. These emissions can affect Earth and its surrounding space, potentially causing disruption to electric power transmission; satellite, aircraft, and spacecraft operations; telecommunications; position, navigation, and timing services; and other technology and infrastructure. Given the growing importance and reliance of the Nation on these services and infrastructures, it is critical that the Nation prepare for the effects of space weather events.

In October 2016, the Space Weather Operations, Research, and Mitigation (SWORM) Subcommittee was established by the National Science and Technology Council (NSTC) Committee on Environment, Natural Resources, and Sustainability, pursuant to Executive Order 13744 on Coordinating Efforts to Prepare the Nation for Space Weather Events. The Executive Order directed the SWORM Subcommittee to coordinate the implementation of the activities specified in the 2015 National Space Weather Action Plan (SWAP), among them the development of a plan that will ensure the improvement, testing, and maintenance of operational forecasting models. This plan is described in the draft white paper Improving the Space Weather Forecasting Research to Operations (R2O)—Operations to Research (O2R) Capability, and this notice solicits public inputs to inform its development.

Dated: January 17, 2017.
Louis Uccellini,
Director.

[FR Doc. 2017-01331 Filed 1-19-17; 8:45 am]

BILLING CODE 3270-F4-P